DEPARTMENT OF THE INTERIOR

Bureau of Indian Affairs

Proclaiming Certain Lands as Reservation for the Jicarilla Apache Nation of New Mexico

AGENCY: Bureau of Indian Affairs, Interior.

ACTION: Notice of reservation proclamation.

SUMMARY: This notice informs the public that the Assistant Secretary—Indian Affairs proclaimed approximately 56.50 acres, more or less, as an addition to the Jicarilla Apache Nation Reservation, New Mexico.

FOR FURTHER INFORMATION CONTACT: Ben Burshia, Bureau of Indian Affairs, Division of Real Estate Services, Mail Stop 4639-MIB, 1849 C Street, NW., Washington, DC 20240, telephone (202) 208-7737.

SUPPLEMENTARY INFORMATION: This notice is published in the exercise of authority delegated by the Secretary of the Interior to the Assistant Secretary—Indian Affairs by part 209 of the Departmental Manual.

A proclamation was issued, according with Section 7 of the Act of June 18, 1934 (48 Stat. 986; 25 U.S.C. § 467), for the land described below. The land was proclaimed to be the Jicarilla Apache Nation Reservation for the exclusive use of Indians on that reservation who are entitled to reside at the reservation by enrollment or tribal membership.

Rio Arriba County, Boyd Ranch Tract, within the Tierra Amarilla Grant, New Mexico.

The above-described lands, contain a total of 56.40 acres, more or less, officially designated the Boyd Ranch Tract, within the Tierra Amarilla Grant, New Mexico, as surveyed in 2003 by the U.S. Department of the Interior, Bureau of Land Management, Cadastral Survey, and shown on the official plat of survey and described in the official field note record, both approved May 19, 2004, and filed in the records of the Bureau of Land Management, New Mexico State Office, in Santa Fe, New Mexico, which are subject to all valid rights, reservations, rights-of-way, and easements of record.

This proclamation does not affect title to the land described above, nor does it affect any valid existing easements for public roads and highways, public utilities and for railroads and pipelines and any other rights-of-way or reservations of record.

Dated: March 24, 2007.
Carl J. Artman,
Assistant Secretary—Indian Affairs.

[FR Doc. E7-6386 Filed 4-4-07; 8:45 am]

BILLING CODE 4310-W7-P